DEPARTMENT OF ENERGY

Federal Energy Regulatory Commission

[Docket No. CP20-484-000; CP20-485-000]

ANR Pipeline Company; Great Lakes Transmission Limited Partnership; Notice of Availability of the Final Environmental Impact Statement for the Proposed Alberta Xpress and Lease Capacity Abandonment Project

The staff of the Federal Energy Regulatory Commission (FERC or Commission) has prepared a final environmental impact statement (EIS) for the Alberta Xpress and Lease Capacity Abandonment Projects, proposed by ANR Pipeline Company (ANR) and Great Lakes Gas Transmission Limited Partnership (GLGT) in Docket Nos. CP20-484-000 and CP20-485-000, respectively. ANR proposes to construct and operate one new greenfield compressor station (designated as the Turkey Creek Compressor Station) and modify a mainline valve in Evangeline Parish, Louisiana, and acquire a lease agreement between ANR and GLGT. ANR has executed binding precedent agreements with two shippers to transport up to 165,000 dekatherms per day of natural gas. GLGT proposes to abandon firm capacity by a lease agreement with ANR. No new construction is proposed as part of the Lease Capacity Abandonment Project; however, this is related to the application filed by ANR to construct and operate the Alberta Xpress Project.

The final EIS assesses the potential environmental effects of the construction and operation of the proposed facilities in accordance with the requirements of the National Environmental Policy Act. The final EIS is not a decision document. It presents Commission staff's independent analysis of the environmental issues for the Commission to consider when addressing the merits of all issues in this proceeding.

The final EIS responds to comments that were received on the Commission's December 4, 2020 environmental assessment (EA) and July 30, 2021 draft EIS,¹ and discloses downstream greenhouse gas emissions for the projects. With the exception of climate change impacts, the FERC staff concludes that approval of the proposed projects, with the mitigation measures recommended in this EIS, would not result in significant environmental impacts. FERC staff continues to be unable to determine significance with regards to climate change impacts.

¹ The project's EA is available on eLibrary under accession no. 20201204-3004 and the draft EIS is available under accession no. 20210730-3017.

The final EIS incorporates the above-referenced EA, which addressed the potential environmental effects of the construction and operation of the Turkey Creek Compressor Station and modifications to a mainline valve. The Turkey Creek Compressor Station would include the following facilities:

• One 15,900 horsepower gas-fired turbine compressor;

• three inlet filter separators;

• three discharge gas cooling bays;

• 36-inch-diameter suction and discharge piping;

• 16-inch-diameter cold recycle valves and piping;

• 16-inch-diameter unit control valve and bypass piping; and

• related appurtenant facilities.

The Commission mailed a copy of the Notice of Availability of the Final Environmental Impact Statement for the Proposed Alberta Xpress and Lease Capacity Abandonment Projects to federal, state, and local government representatives and agencies; elected officials; environmental and public interest groups; Native American tribes; potentially affected landowners and other interested individuals and groups; and newspapers and libraries in the Alberta Xpress Project area. The final EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search), select “General Search,” and enter the docket number in the “Docket Number” field (i.e., CP20-484 and CP20-485). Be sure you have selected an appropriate date range. For assistance, please contact FERC Online Support at FercOnlineSupport@ferc.gov or toll free at (866) 208-3676, or for TTY, contact (202) 502-8659.

Additional information about the projects are available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 29, 2021.
Debbie-Anne A. Reese,
Deputy Secretary.

[FR Doc. 2021-24106 Filed 11-3-21; 8:45 am]

BILLING CODE 6717-01-P